DEPARTMENT OF TRANSPORTATION

Federal Highway Administration

[Docket No. FHWA-2023-0006]

Notice of Intent To Prepare and Environmental Impact Statement for a Proposed Highway Project, Somerset County, PA and Garrett County, MD

AGENCY: Federal Highway Administration (FHWA), Department of Transportation.

ACTION: Notice of intent to prepare an environmental impact statement.

SUMMARY: FHWA in coordination with the Pennsylvania Department of Transportation (PennDOT) and the Maryland Department of Transportation State Highway Administration (MDOT SHA) is issuing the Notice of Intent (NOI) to solicit comments and advise the public, agencies, and stakeholders that an Environmental Impact Statement (EIS) will be prepared to study potential improvements to the US 6219, Section 050 Transportation Improvement Project from Meyersdale, PA to Old Salisbury Road, MD. The project includes the proposed construction of an 8.0 mile (6 miles in Pennsylvania and 2 miles in Maryland) four-lane limited access facility on new alignment from the end of the Meyersdale Bypass in Somerset County, Pennsylvania to the newly constructed portion of US 219 in Garrett County, Maryland. This NOI contains a summary of the information required in the Council on Environmental Quality (CEQ) regulations. This NOI should be reviewed together with the Supplementary NOI Document, which contains important details about the proposed project and complements the information in this NOI. Persons and agencies who may be interested in or affected by the proposed project are encouraged to comment on the information in this NOI and the Supplementary NOI Document. All comments received in response to this NOI will be considered and any information presented herein, including the preliminary purpose and need, preliminary alternatives and identified impacts, may be revised in consideration of the comments.

DATES: Comments on the NOI or the Supplementary NOI Document are to be received by FHWA through the methods below by July 3, 2023.

ADDRESSES: This NOI and the Supplementary NOI Document are also available in the docket referenced above at www.regulations.gov and on the project website located at www.penndot.pa.gov/us219meyersdalesouth. The Supplementary NOI Document will be mailed upon request. Interested parties are invited to submit comments by any of the following methods:

Website: For access to the documents, go to the Federal eRulemaking Portal located at www.regulations.gov or the project website located at www.penndot.pa.gov/us219meyersdalesouth. Follow the online instructions for submitting comments.

Mailing address or for hand delivery or courier: Jon Crum, Team Leader—Planning and Environment, Federal Highway Administration, Pennsylvania Division Office, 30 North 3rd Street, Suite 700, Harrisburg, Pennsylvania, 17101-1720.

Email address: Jonathan.Crum@dot.gov.

All submissions should include the agency name and the docket number that appears in the heading of this Notice. All comments received will be posted without change to the www.regulations.gov, including any personal information provided. A summary of the comments will be included in the Draft EIS.

FOR FURTHER INFORMATION CONTACT: FHWA: Jon Crum, Team Leader for Planning and Environment, Federal Highway Administration—Pennsylvania Division, 30 North 3rd Street, Suite 700, Harrisburg, PA 17101-1720; email: Jonathan.Crum@dot.gov; 717-221-3735. PennDOT: Nicki Donahoe, PE, Project Manager, Pennsylvania Department of Transportation, Engineering District 9-0, 1620 N. Juniata Street, Hollidaysburg, PA 16648; email: ndonahoe@pa.gov; 814-317-1650. MDOT: Jeremy Beck, Senior Project Manager, Maryland Department of Transportation, State Highway Administration, Office of Planning and Preliminary Engineering, 707 North Calvert Street, Baltimore, MD 21202; email: JBeck@mdot.maryland.gov; 410-545-8518/800-548-5026.

SUPPLEMENTARY INFORMATION: It is important to note that the FHWA, PennDOT, and MDOT SHA are committed to public involvement for this project. All public comments received in response to this notice will be considered and revisions may be made to the information presented herein as appropriate. The environmental review of alternatives for the transportation project along Section 050 of US 219 will be conducted in accordance with the requirements of the National Environmental Policy Act (NEPA) of 1969, as amended (42 U.S.C. 4321, et seq.), 23 U.S.C. 139, CEQ regulations implementing NEPA (40 CFR 1500-1508), FHWA regulations implementing NEPA (23 CFR 771.101-771.139) and all applicable Federal, State, and local governmental laws and regulations.

Background

PennDOT originally studied US 219 improvements south of Somerset, Pennsylvania, during the 1990s. These studies identified a five-mile section of US 219 through Meyersdale, Pennsylvania, as the area's most immediate transportation problem. The Meyersdale Bypass project was constructed in 1998 as a four-lane, limited access highway located west of existing US 219 in Meyersdale Borough and Summit Township, Somerset County, Pennsylvania. This project was followed by the completion of an 11-mile four-lane limited access facility in 2018 from Somerset to Meyersdale, Pennsylvania. In 2021, MDOT SHA completed construction of an approximately 1.4-mile section from Interstate 68 (I-68) in Maryland to Old Salisbury Road, just south of the State line.

Preliminary engineering and a Draft Environmental Impact Statement (DEIS) for US 219 originally began in 2001 but was put on hold in 2007 due to funding constraints. As a result, the document went unpublished. Several alternatives were evaluated in the DEIS, and these alternatives served as the starting point for the 2016 Planning and Environmental Linkages (PEL) Study for this project.

The PEL concluded that Alignments E and E-shift were considered reasonable and recommended to be evaluated in future NEPA Studies. However, at the time of the PEL study, adequate funding was not available to advance the project in its entirety. As a result, the team completed an evaluation to identify whether any stand-alone projects existed along the project alignments.

The PEL identified that the MD 1.4-mile section both improves the existing I-68/US 219 interchange and best addresses the PEL's Project Vision and Goals by directly serving near future planned development (Casselman Farm Development Site) located in Garrett County, Maryland's Smart Growth Priority Funding Area. This section was also found to be “of sufficient length to address environmental matters on a broad scope and does not restrict consideration of alternatives for other reasonably foreseeable transportation improvements” including the current study to complete the remaining four-lane US 219 section between the Meyersdale Interchange in Pennsylvania and the recently completed 1.4-mile section in Maryland.

After the PEL, MDOT SHA developed seven preliminary concepts for the 1.4-mile section and presented them at a public workshop on September 8, 2016, and an open house on September 9, 2016. A Joint Location/Design Public Hearing was held on February 6, 2017, to obtain public input on the alternatives under consideration. Based on the evaluation and comparison of the alternatives, including input from the public, Alternative 4 Modified was recommended as the MDOT SHA Preferred Alternative. This section received FHWA Preferred Alternative and Conceptual Mitigation Package/Categorical Exclusion approval on July 18, 2018, and was subsequently constructed. The new 1.4-mile section opened to traffic in May 2021.

The US 6219, Section 050 Transportation Improvement Project was re-initiated November 9, 2020, when the Secretary of Transportation announced the commitment of funds for this project.

The following information provided in the NOI is supplemented with more detail in the Supplemental NOI Document.

(a) The Preliminary Purpose and Need for the Proposed Action

The purpose of the US 6219, Section 050 Transportation Improvement Project is to complete Corridor N of the Appalachian Development Highway System, to improve the system linkage in the region, provide safe and efficient access for motorists traveling on US 219, and provide transportation infrastructure to support economic opportunities in existing and planned communities and employment/business centers and natural resource-based industries within the Appalachian Region.

The project needs identified for this project are that: (1) existing US 219 does not provide efficient mobility for trucks and freight, (2) there are numerous roadway and geometric deficiencies present along the existing US 219 alignment, and (3) the existing roadway infrastructure is a limiting factor in economic development opportunities in the Appalachian Region.

The preliminary Purpose and Need was developed with agency coordination and public input, as described in section e; see the Supplemental NOI Document for details on the development of the Purpose and Need. The project purpose and needs were presented to the Pennsylvania and Maryland resource agencies at an agency coordination meeting on September 22, 2021, a Community Advisory Committee on November 3, 2021, and to public officials and the general public at an open house meeting on June 23, 2022, and a virtual meeting on June 27, 2022. Resource agencies and the public were invited to comment on the Purpose and Need. The Purpose and Need statement and supporting documentation, including data and public input summary, will be available in the Draft EIS. No comments were received from either the resource agencies or public following the outreach. The Purpose and Need may be revised based on comments received during the comment period on this notice.

(b) A Preliminary Description of the Proposed Action and Alternatives the Environmental Impact Statement Will Consider

The proposed action is anticipated to include construction of a new 8.0-mile (6 miles in Pennsylvania and 2 miles in Maryland) 4-lane limited-access facility from the end of the Meyersdale Bypass in Pennsylvania to the newly constructed portion of US 219 in Maryland. Agencies and the public are invited to comment on the Range of Alternatives for the proposed action. Additional information on the Range of Alternatives is in the Supplementary NOI Document. The Range of Alternatives proposed to be considered in the EIS are the following:

No Build Alternative

The No Build Alternative involves taking no action, except routine maintenance along US 219. The existing two-lane alignment of US 219 between Meyersdale, Pennsylvania and Garrett County, Maryland would remain. No new alignments or additional roadway would be constructed.

Alignment DA

Alignment DA was delineated using suggestions by the study area farmers and Cooperating and Participating Agencies during former 2001 NEPA efforts to avoid natural resource impacts by staying closer to US 219 and avoiding the mountain slope/ridge. Alignment DA starts at the southern end of the Meyersdale Bypass, proceeding in a southerly direction to just south of the Mast farm, where it heads westward toward existing US 219. The alignment crosses between the Deal and Mast farms, then turns in a southwesterly direction, crossing existing US 219 just south of Salisbury, Pennsylvania. Alignment DA then travels in a southerly direction, crossing existing US 219 again just south of the Mason-Dixon Line and staying close to existing US 219, and ties into the newly constructed section of US 219.

Alignment DA-Shift

Alignment DA-Shift resulted from combining Alignment DA with Alignment E-Shift. Alignment E-Shift was suggested by residents during former 2001 NEPA efforts to move the alignment further away from residences along Old Salisbury Road. Alignment DA-Shift follows the same alignment as Alignment DA from Meyersdale until about one mile south of the Mason-Dixon Line, where the alignment is shifted eastward, away from Old Salisbury Road.

Alignment DU

Alignment DU resulted from combining suggestions from the US Fish and Wildlife Service (USFWS) with an alignment identified during former 2001 NEPA efforts. USFWS suggested an alternative to avoid the mountain slope/ridge in Pennsylvania and reduce potential impacts to terrestrial wildlife. Alignment DU follows Alignment DA until Greenville Road, where instead of continuing southwest towards existing US 219, the alignment travels south towards the Mason-Dixon Line. Alignment DU and Alignment DA coincide again south of the Mason-Dixon Line.

Alignment DU-Shift

Like Alignment DA Shift, Alignment DU-Shift resulted from combining Alignment DU with Alignment E-Shift to move the alignment further away from residences along Old Salisbury Road. Alignment DU-Shift mimics the alignment of Alignment DU from Meyersdale until south of the Mason-Dixon Line, where the alignment is shifted eastward and away from Old Salisbury Road.

Alignment E

Alignment E was suggested during former 2001 NEPA efforts to avoid farmland in Pennsylvania and avoid residential areas along existing US 219. Alignment E starts at the southern end of the Meyersdale Bypass and proceeds in a southerly direction along the face of Meadow Mountain. At the Pennsylvania/Maryland border, Alignment E would extend in a southwesterly direction, east of the existing US 219.

Alignment E-Shift

Alignment E-Shift was suggested by residents along Old Salisbury Road during former 2001 NEPA efforts and involves moving Alignment E further away from the residences on Old Salisbury Road. Alignment E-Shift follows Alignment E, with the exception of a small shift in Maryland, slightly eastward, away from the homes along Old Salisbury Road. Alignment E does not directly impact the homes along Old Salisbury Road; however, residents requested an evaluation of a slightly eastward shift to move the alignment further from their homes. The trade-off is that Alignment E-Shift bisects a farm field that is only slightly impacted by Alignment E. This shifted section is the same as the shifted section of Alignment DA-Shift and Alignment DU-Shift.

(c) Brief Summary of Expected Impacts

PennDOT and MDOT SHA have conducted scoping activities for the US 6219, Section 050 Transportation Improvement Project, such as secondary source data collection, agency coordination, and public outreach, to identify the types of environmental, cultural, and socio-economic resources present in the Study Area and those likely to be impacted. The following resources will be evaluated in the EIS and supporting technical studies: cultural resources (archaeology and historic architecture); hazardous materials; air quality; noise-sensitive areas; natural resources (wildlife and habitat; threatened, endangered, and special status species; waters of the US; water quality; groundwater; floodplains; and farmlands); visual resources; Section 4(f) resources (recreational facilities, historic properties, and State Game Lands); and socioeconomics, land use, and right-of-way (communities and community facilities, population and housing, economic resources, land use and right-of-way, and Environmental Justice).

Based on an analysis completed to date using both the EPA's EJScreen Tool and the Maryland EJScreen Mapper, EJ populations (low income) are present within the study area. However, there are no residential or non-residential EJ relocations anticipated.

The level of review of the identified resources for the EIS will be commensurate with the anticipated effects to each resource from the proposed project and will be governed by the statutory or regulatory requirements protecting those resources. The analyses and evaluations conducted for the EIS will identify the potential for effects, avoidance measures, whether the anticipated effects would be adverse, and mitigation measures for adverse effects. Additional information on the expected impacts is provided in the Supplementary NOI document available for review in the docket established for this project and on the project website as noted in the ADDRESSES section. Comments on the expected impacts to be analyzed in the DEIS are welcomed during the NOI comment period.

Agencies, stakeholders, and the public are invited to comment on the expected impacts. The environmental impact analysis will not begin until the Purpose and Need, Range of Alternatives, and impact categories are finalized based on public comment on this notice. The identification of impacts may be revised due to the consideration of public comments. See the Supplementary NOI Document for a more detailed description of the Summary of Expected Impacts. The studies to identify the impacts, as well as the analyses of impacts from the retained alternatives, will be presented in the Draft EIS.

(d) Anticipated Permits and Other Authorizations

At the request of the sponsor, the permitting schedule includes the following timetable. A Clean Water Act Section 404 permit decision from the US Army Corps of Engineers is anticipated on September 17, 2027.¹ Other anticipated State authorizations include a Pennsylvania Department of Environmental Protection Section 401 Water Quality Certification/Chapter 105 Standard Permit on September 17, 2027, and a Maryland Department of the Environment Joint Federal/State Title 5 Permit Application for the Alteration of any Floodplain, Waterway, Tidal or Nontidal Wetland in Maryland on September 17, 2027. Section 7 consultation under the Endangered Species Act is expected to be concluded on June 27, 2023, and Section 106 consultation under the National Historic Preservation Act is anticipated to be concluded on December 13, 2023. See the Supplemental NOI Document for more detail on the anticipated permits and other authorizations.

¹ 23 U.S.C. 139(d)(10) requires all authorization decisions necessary for the construction of a major project be completed no later than 90 days from the issuance of the ROD for the project. This deadline may be extended where Federal law prohibits granting the decision within this period of time, the project sponsor requests a different timeline, or if the extension would facilitate the completion of the environmental review and authorization process for the project.

(e) Scoping and Public Review

Agency Scoping

FHWA, PennDOT, and MDOT SHA have conducted agency coordination to inform the purpose and need and preliminary project alternatives, scoping meeting, and other elements outlined in this document. An Agency Coordination Plan was reviewed and agreed to by the Pennsylvania and Maryland resource agencies, including the Cooperating and Participating agencies. It is a living document that will be updated through the EIS process. The resource agency meetings in Pennsylvania are referred to as Agency Coordination Meetings (ACM) and the resource agency meetings in Maryland are referred to as Interagency Review Meeting (IRM). Since PennDOT is the lead agency for this project, the agency meetings are typically held on the ACM's regularly scheduled meeting dates. Some variation does occur and, in that case, the same information is presented to both the ACM and the IRM. The list of agency coordination meetings held begins after November 9, 2020, the date Pennsylvania Transportation Secretary announced the commitment of funds for this project.

April 28, 2021 (ACM-PA) and June 16, 2021 (IRM-MD)

• US 219-050: Meyersdale, PA to Old Salisbury Rd., MD reintroduction

• Summary of the PEL Process

• Current Project Status

• Agency Involvement

September 9, 2021—Joint ACM and IRM

• Process to Move from PEL to NEPA

• ACM/IRM Role

• Cooperating and Participating Agencies

• Review Purpose and Need/Logical Termini

• Review PEL Alternatives Studied

• Agency PEL comments to be addressed in NEPA

November 16, 2021—Joint Scoping Meeting

• Scoping Meeting Overview

• Review Agency Questions from 9/22/21 Meeting

• Virtual Scoping using Google Earth

• Comparison of PennDOT & MDOT SHA NEPA Planning Processes

• Present Technical Methodologies Matrix

• Review Tentative Project Schedule

May 25, 2022 (ACM-PA) and June 15, 2022 (IRM-MD)

• Recent Activities

• Purpose and Need and Logical Termini Review

• Proposed NEPA Study Alternatives

• Public and Agency Coordination Plan Review

• Review agency input received following from the November 16, 2021, Virtual Field Scoping Meeting

• Review information to be presented at the June 2 Community Advisory Committee (CAC) and June 23 Public Meeting

August 24, 2022—Joint ACM and IRM

• Present results of the CAC meeting, Public Officials meeting, Open House meeting and Virtual meeting

• Reviewed secondary source impacts of Proposed NEPA Study Alternatives

Public Review

PennDOT and MDOT SHA conducted public outreach activities during the Pre-NOI phase of the US 6219, Section 050 Transportation Improvement Project to present information and collect public input. However, for purposes of documenting activities in this NOI, the start date is November 9, 2020, which is when the Pennsylvania Transportation Secretary announced the commitment of funds for this project.

To date, PennDOT and MDOT SHA reconvened the CAC that had been previously established for this project and have held two CAC meetings. The purpose of the CAC is to provide an additional method of communication between PennDOT, MDOT SHA, FHWA, and the local communities, and to provide input into project development. The CAC serves as an advisory group to the Project Team to ensure that local interests and concerns are considered in a timely manner. These meetings allowed the CAC the opportunity to comment on any changes to the project study area since the 2016 PEL document and the revised Purpose and Need (November 2021), and to provide input on the preliminary range of NEPA alternatives (June 2022). Additionally, PennDOT and MDOT SHA offered a public officials meeting (June 23, 2022), an open house public meeting (June 23, 2022), and virtual meeting (June 27, 2022). These meeting allowed public officials and citizens the same opportunity to comment on the information presented at the CAC meetings and served as the public scoping meeting. The materials for these meetings are on the project website.

PennDOT and MDOT SHA will maintain and update the project website, as identified in the ADDRESSES section of this notice, to direct the public to the scoping meeting presentation and solicit public input. Additionally, PennDOT and MDOT SHA will continue to conduct targeted outreach to communities in and around the study area. A 30-day comment period is being held in association with the NOI. There will be at least three more public involvement opportunities for the US 6219, Section 050 Transportation Improvement Project from Meyersdale, Pennsylvania to Old Salisbury Road, Maryland. These will be public meetings/hearings to receive input on the detailed alternatives (public meeting), recommended preferred alternative and draft EIS (public hearing), and selected alternative/conceptual mitigation (public meeting).

(f) A Schedule for the Decision-Making Process

Following the issuance of this notice, FHWA, PennDOT, and MDOT SHA will coordinate with the Participating and Cooperating Agencies to develop study documentation and the Draft EIS.

• The Draft EIS is anticipated to be issued in March 2024.

• The combined Final EIS and Record of Decision is anticipated in February 2025.

• A Section 404 permit decision from the United States Army Corps of Engineers is expected in September 2027.

See the Supplemental NOI Document for additional schedule details.

(g) Request for Identification of Potential Alternatives, Information, and Analyses Relevant to the Proposed Action

To ensure that a full range of issues related to the study are addressed and all potential issues are identified, FHWA invites comments and suggestions from all interested parties. The project team requests comments and suggestions on purpose and need, potential alternatives and impacts, and the identification of any relevant information, studies, or analyses of any kind concerning impacts affecting the quality of the human environment. Any information presented herein, including the preliminary purpose and need, preliminary range of alternatives, and identification of impacts may be revised after consideration of the comments. The purpose of this request is to bring relevant comments, information, and analyses to the agency's attention, as early in the process as possible, to enable the agency to make maximum use of this information in decision making. Comments may be submitted according to the instructions in the ADDRESSES section of this Notice.

(h) Contact Information

FHWA: Jon Crum, Team Leader—Planning and Environment, Federal Highway Administration, Pennsylvania Division Office, 30 North 3rd Street, Suite 700, Harrisburg, PA 17101-1720; email address: Jonathan.Crum@dot.gov; 717-221-3735.

PennDOT: Nicki Donahoe, PE, Project Manager, Pennsylvania Department of Transportation, Engineering District 9-0, 1620 N Juniata Street, Hollidaysburg, PA 16648; email: ndonahoe@pa.gov; 814-317-1650.

MDOT SHA: Jeremy Beck, Senior Project Manager, Maryland Department of Transportation, State Highway Administration, Office of Planning and Preliminary Engineering, 707 North Calvert Street, Baltimore, MD 21202; email: JBeck@mdot.maryland.gov; 410-545-8518/800-548-5026.

Alicia E. Nolan,
Pennsylvania Division Administrator, Federal Highway Administration.

[FR Doc. 2023-11794 Filed 6-1-23; 8:45 am]

BILLING CODE 4910-22-P